DEPARTMENT OF DEFENSE

Office of the Secretary

Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the Department of Defense Task Force on the Prevention of Suicide by Members of the Armed Forces will meet on April 12, 2010. Subject to the availability of space, the meeting is open to the public.

DATES: The meeting will be held on April 12, 2010, from 9 a.m. to 4 p.m.

ADDRESSES: The meeting will be held at the Colorado Springs Marriott hotel, 5580 Tech Center Drive, Colorado Springs, CO 80919.

Written statements may be mailed to the address under FOR FURTHER INFORMATION CONTACT, e-mailed to dhb@ha.osd.mil or faxed to (703) 681-3317.

FOR FURTHER INFORMATION CONTACT: Col JoAnne McPherson, Executive Secretary, Department of Defense Task Force on the Prevention of Suicide by Members of the Armed Forces, One Skyline Place, 5205 Leesburg Pike, Suite 810, Falls Church, Virginia 22041-3206, (703) 681-3279, ext 162, Fax: (703) 681-3317, JoAnne.Mcpherson@tma.osd.mil.

SUPPLEMENTARY INFORMATION:

Purpose of the Meeting

The purpose of the meeting is to gather information pertaining to suicide and suicide prevention programs for members of the Armed Services.

Agenda

On April 12, 2010, the Department of Defense Task Force on the Prevention of Suicide by Members of the Armed Forces, a subcommittee of the Defense Health Board (DHB), will receive briefings from various speakers addressing multiple aspects of suicide prevention in the United States and the relevance of that information on suicide prevention efforts within the Armed Forces.

Pursuant to 5 U.S.C. 552b, as amended, and 41 CFR 102-3.140 through 102-3.165 and subject availability of space, the Department of Defense Task Force on the Prevention of Suicide by Members of the Armed Forces meeting is open to the public. The public is encouraged to register for the meeting.

Additional information, agenda updates, and meeting registration are available online at the Defense Health Board Web site, http://www.ha.osd.mil/dhb.

Written Statements

Any member of the public wishing to provide input to the Department of Defense Task Force on the Prevention of Suicide by Members of the Armed Forces should submit a written statement in accordance with 41 CFR 102-3.140(c) and section 10(a)(3) of the Federal Advisory Committee Act, and the procedures described in this notice. Written statement should address the following detail: the issue, discussion, and a recommended course of action. Supporting documentation may also be included as needed to establish the appropriate historical context and to provide any necessary background information.

Individuals desiring to submit a written statement may do so through the Board's Designated Federal Officer (DFO) (see FOR FURTHER INFORMATION CONTACT) at any point. However, if the written statement is not received prior to the meeting, which is subject to this notice, then it may not be provided to or considered by the Department of Defense Task Force on the Prevention of Suicide by Members of the Armed Forces until the next open meeting.

The DFO will review all timely submissions with the Department of Defense Task Force on the Prevention of Suicide by Members of the Armed Forces Co-Chairpersons, and ensure they are provided to members of the Department of Defense Task Force on the Prevention of Suicide by Members of the Armed Forces before the meeting that is subject to this notice. After reviewing the written comments, the Co-Chairpersons and the Designated Federal Officer may choose to invite the submitter of the comments to orally present their issue during an open portion of this meeting or at a future meeting.

The DFO, in consultation with the Department of Defense Task Force on the Prevention of Suicide by Members of the Armed Forces Co-Chairpersons, may, if desired, allot a specific amount of time for members of the public to present their issues for review and discussion by the Department of Defense Task Force on the Prevention of Suicide by Members of the Armed Forces.

Dated: March 5, 2010.
Mitchell S. Bryman,
Alternate OSD Federal Register Liaison Officer, Department of Defense.

[FR Doc. 2010-5457 Filed 3-11-10; 8:45 am]

BILLING CODE 5001-06-P